DEPARTMENT OF DEFENSE

Office of the Secretary

Department of Defense Task Force on the Care, Management, and Transition of Recovering Wounded, Ill, and Injured Members of the Armed Forces; Meeting

AGENCY: Department of Defense, Office of the Assistant Secretary of Defense.

ACTION: Notice.

SUMMARY: Under the provisions of the Federal Advisory Committee Act of 1972 (5 U.S.C., Appendix, as amended), the Government in the Sunshine Act of 1976 (5 U.S.C. 552b, as amended), and 41 CFR 102-3.150, the Department of Defense announces that the following Federal Advisory Committee meeting will take place: Department of Defense Task Force on the Care, Management, and Transition of Recovering Wounded, Ill, and Injured Members of the Armed Forces (subsequently referred to as the Task Force).

DATES: Tuesday, October 4, 2011-Wednesday, October 5, 2011, from 8:30 a.m. to 5 p.m. each day.

ADDRESSES: Crystal City Hyatt Regency, 2799 Jefferson Davis Highway, Arlington, VA 22202, Regency E Ballroom.

FOR FURTHER INFORMATION CONTACT: Mail Delivery service through Recovering Warrior Task Force, Hoffman Building II, 200 Stovall St., Alexandria, VA 22332-0021 “Mark as Time Sensitive for October Meeting”. E-mails to rwtf@wso.whs.mil. Denise F. Dailey, Designated Federal Officer; Telephone (703) 325-6640. Fax (703) 325-6710.

SUPPLEMENTARY INFORMATION:

Purpose of the Meeting: The purpose of the meeting is for the Task Force Members to receive briefings on a number of the topic areas listed in the Task Force Charter and to discuss the year's installation visits and business meetings.

Agenda: (Please refer to http://dtf.defense.gov/rwtf/meetings.html for the most up-to-date meeting information).

Open to the Public

Tuesday, October 4, 2011

8:30 a.m. Task Force Members After Action Review of FY 2011.

9:30 a.m. Break.

9:45 a.m. Dr. Bernie Rostker.

10:45 a.m. Break.

11 a.m. Veteran's Rehabilitation and Employment.

12 p.m. Break for lunch located in Potomac 4.

1 p.m. Armed Forces Health Surveillance Center.

2 p.m. Break.

2:15 p.m. Quality of Life Foundation.

3:15 p.m. National Military Family Association.

4:15 p.m. Task Force Installation Visit Review.

5 p.m. Closing.

Wednesday, October 5, 2011

8:30 a.m. Public Forum.

9 a.m. Wounded Warrior Care and Transition Policy.

10 a.m. Open.

11 a.m. Open.

12 p.m. Break for lunch located in Potomac 4.

1 p.m. Health Affairs.

2 p.m. Gray Team Briefing on TBI management in the Theater.

3 p.m. Department of Labor.

4 p.m. Open.

5 p.m. Closing.

Public's Accessibility to the Meeting: Pursuant to 5 U.S.C. 552b and 41 CFR 102-3.140 through 102-3.165, and the availability of space, this meeting is open to the public. Seating is on a first-come basis.

Pursuant to 41 CFR 102-3.105(j) and 102-3.140, and section 10(a)(3) of the Federal Advisory Committee Act of 1972, the public or interested organizations may submit written statements to the Department of Defense Task Force on the Care, Management, and Transition of Recovering Wounded, Ill, and Injured Members of the Armed Forces about its mission and functions. If individuals are interested in making an oral statement during the Public Forum time period, a written statement for a presentation of two minutes must be submitted as below and must identify it is being submitted for an oral presentation by the person making the submission. Identification information must be provided and at a minimum must include a name and a phone number. Individuals may visit the Task Force Web site at http://dtf.defense.gov/rwtf/ to view the Charter. Individuals making presentations will be notified by Friday, September 30, 2011. Oral presentations will be permitted only on Wednesday, October 5, 2011 from 8:30 a.m. to 9 a.m. before the full Task Force. Number of oral presentations will not exceed ten, with one minute of questions available to the Task Force members per presenter. Presenters should not exceed their two minutes.

Written statements in which the author does not wish to present orally may be submitted at any time or in response to the stated agenda of a planned meeting of the Department of Defense Task Force on the Care, Management, and Transition of Recovering Wounded, Ill, and Injured Members of the Armed Forces.

All written statements shall be submitted to the Designated Federal Officer for the Task Force through the above contact information, and this individual will ensure that the written statements are provided to the membership for their consideration.

Statements, either oral or written, being submitted in response to the agenda mentioned in this notice must be received by the Designated Federal Officer at the address listed no later than 5 p.m. Eastern Daylight Time (EDT), Wednesday, September 28, 2011 which is the subject of this notice. Statements received after this date may not be provided to or considered by the Task Force until its next meeting. Please mark mail correspondence as “Time Sensitive for October Meeting.”

The Designated Federal Officer will review all timely submissions with the Task Force Co-Chairs and ensure they are provided to all members of the Task Force before the meeting that is the subject of this notice.

Reasonable accommodations will be made for those individuals with disabilities who request them. Requests for additional services should be directed to Heather Jane Moore, (703) 325-6640, by 5 p.m. EDT, Wednesday, September 28, 2011.

Dated: September 9, 2011.
Aaron Siegel,
Alternate OSD Federal Register Liaison Officer, Department of Defense.

[FR Doc. 2011-23483 Filed 9-13-11; 8:45 am]

BILLING CODE 5001-06-P